DEPARTMENT OF HOMELAND SECURITY

Transportation Security Administration

Advance Notice of Availability of Security Improvement Grants and Application Process

AGENCY: Transportation Security Administration, DHS.

ACTION: Notice of availability.

SUMMARY: DHS is announcing that it will issue guidance and accept applications for surface transportation security improvement grants and that applicants must submit the applications pursuant to procedures to be made available on or about February 1, 2008.

FOR FURTHER INFORMATION CONTACT: E-mail: TSAgrants@tsa.dhs.gov.

SUPPLEMENTARY INFORMATION:

New and Extended Programs

On or about February 1, 2008, DHS will announce a new grant program for the freight rail industry and extensions of, and possible changes to, two existing surface transportation grant programs: Trucking (Trucking Security Program or TSP) and Intercity Bus (Intercity Bus Security Grant Program or IBSGP). By this notice, DHS is encouraging entities owning, operating, or having interest in systems in these transportation sectors to review the forthcoming guidance and, as appropriate, apply for grants under the programs.

DHS will soon be initiating a new grant program called the Freight Rail Security Grant Program (FRSGP). It is a component of the Transit Security Grant Program (TSGP), which is a part of DHS's FY 2008 Infrastructure Protection Program (IPP). The FRSGP was created as a result of the “Implementing Recommendations of the 9/11 Commission Act of 2007” (9/11 Commission Act), Public Law 110-53. Sec. 1513 of the 9/11 Commission Act directs DHS to make funds for security improvement grants available to certain entities involved in or with the freight railroad industry and specifies the uses to which the funds may be applied.

At the same time that DHS announces grant guidance, DHS will announce extensions of the existing TSP and the IBSGP. Currently, TSP funds are used to service an anti-terrorism and security awareness program for professionals and operating entities within the highway sector to include: (1) Participant identification and recruitment; (2) training; (3) communications; and (4) information analysis and distribution. Per The Joint Explanatory Statement accompanying HR 2764 the FY 2008 Consolidated Appropriations Act, the FY 2008 program must be a competitive program and open to any entity that can demonstrate the financial and resource capabilities to service the program within the highway sector. The IBSGP awards funds to expand security for bus services to fixed route over-the-road buses and charter bus operations with a minimum of 50 trips into an Urban Area Security Initiative (UASI) jurisdiction. An UASI jurisdiction is defined in the Homeland Security Grant Program (HSGP) FY 2008 Program Guidelines and Application Kit.

General Information

In grant guidance to be released on or about February 1, 2008, DHS will identify the categories of freight rail, trucking, and intercity bus entities that are eligible for funding under the programs and the uses to which funding may be applied. With respect to the TSP and IBSGP, eligibility will not necessarily be limited to entities that have been eligible for funding under previous DHS grant programs.

To apply for grant funding under the FRSGP, TSP, or IBSGP, each eligible applicant must first register as a grant applicant with the Federal government at http://www.grants.gov. Several additional steps are required to complete this registration, including registering with the Central Contractor Registration (http://www.ccr.gov) and obtaining a Dun & Bradstreet (DUNS) number. Please visit www.grants.gov for more detailed information about this registration process. Please be advised that the entire process can take several weeks. DHS will also post additional information about registration when we issue the grant guidance on or about February 1, 2008. After that date, you may obtain an electronic copy of the grant guidance at http://www.tsa.gov/grants.

Issued in Arlington, Virginia, on January 24, 2008.
John Sammon,
Assistant Administrator, Transportation Sector Network Management.

[FR Doc. E8-1548 Filed 1-28-08; 8:45 am]

BILLING CODE 9110-05-P